DEPARTMENT OF COMMERCE

National Oceanic and Atmospheric Administration

RIN 0648-XG389

North Pacific Fishery Management Council; Public Meeting

AGENCY: National Marine Fisheries Service (NMFS), National Oceanic and Atmospheric Administration (NOAA), Commerce.

ACTION: Notice of public meeting.

SUMMARY: The North Pacific Fishery Management Council (Council) Trawl Electronic Monitoring Committee will hold a public meeting on August 23, 2018 through August 24, 2018.

DATES: The meeting will be held on Thursday, August 23, 2018, from 9 a.m. to 5:30 p.m. and on Friday, August 24, 2018, from 9 a.m. to 5:30 p.m. (or as necessary).

ADDRESSES: The meeting will be held in the Husky Room, Purple and Gold at the Silver Cloud Hotel, 5036 25th Ave. NE, Seattle, WA 98105. Teleconference number: (907) 271-2896.

Council address: North Pacific Fishery Management Council, 605 W 4th Ave., Suite 306, Anchorage, AK 99501-2252; telephone: (907) 271-2809.

FOR FURTHER INFORMATION CONTACT: Elizabeth Figus, Council staff; telephone: (907) 271-2801.

SUPPLEMENTARY INFORMATION:

Thursday, August 23, 2018 through Friday, August 24, 2018

This two-day meeting is expected to focus on: (a) A presentation on uses of EM for recording interactions with seabirds; (b) an update about the Alaska Region Electronic Technologies Implementation Plan; (c) updates for ongoing research, funding, and regulatory comparisons relevant to trawl EM; (d) a review of the EM Workgroup cooperative approach; (e) drafting of a cooperative workplan for trawl EM; and, (f) a discussion of scheduling and other issues. The Agenda is subject to change, and the latest version will be posted at http://www.npfmc.org/observer-program/.

Public Comment

Public comment letters will be accepted and should be submitted either electronically to Elizabeth Figus, Council staff: Elizabeth.figus@noaa.gov or through the mail: North Pacific Fishery Management Council, 605 W 4th Ave., Suite 306, Anchorage, AK 99501-2252. In-person oral public testimony will be accepted at the discretion of the chair.

Special Accommodations

These meetings are physically accessible to people with disabilities. Requests for sign language interpretation or other auxiliary aids should be directed to Shannon Gleason at (907) 271-2809 at least 7 working days prior to the meeting date.

Dated: July 31, 2018.
Tracey L. Thompson,
Acting Deputy Director, Office of Sustainable Fisheries, National Marine Fisheries Service.

[FR Doc. 2018-16703 Filed 8-3-18; 8:45 am]

BILLING CODE 3510-22-P